DEPARTMENT OF COMMERCE

Bureau of Industry and Security

Action Affecting Export Privileges; Credit International Trading Co. Ltd; In the Matter of: Credit International Trading Co, Ltd (11th Institute), No. 2 Zhong Guan Cun Nan Street, Haidian District, Beijing 100039, People's Republic of China and No 9A Dongtucheng Road, Heping Street, Chaoyang District, Beijing, People's Republic of China;

Order Making Order Denying Export Privileges of Ruo Ling Wang Applicable to Related Person Credit International Trading Company

Pursuant to Sections 766.25(h) and 766.23 of the Export Administration Regulations ¹ (“EAR”), the Bureau of Industry and Security (“BIS”), U.S. Department of Commerce, through its Office of Export Enforcement (“OEE”), has requested that I make the Denial Order that was imposed against the individual Ruo Ling Wang (“Wang”) on April 18, 2006 (71 Fed. Reg. 23897, April 25, 2006) applicable to Credit International Trading Co, Ltd (11th Institute), (“Credit International”), with addresses at: No. 2 Zhong Guan Cun Nan Street, Haidian District, Beijing 100039, People's Republic of China, and No 9A Dongtucheng Road, Heping Street, Chaoyang District, Beijing, People's Republic of China, (hereinafter, the “Related Person”), as a person related to Wang.

¹ The EAR are currently codified at 15 CFR parts 730-774 (2010).

Section 766.23 of the EAR provides that “[i]n order to prevent evasion, certain types of orders under this part may be made applicable not only to the respondent, but also to other persons then or thereafter related to the respondent by ownership, control, position of responsibility, affiliation, or other connection in the conduct of trade or business. Orders that may be made applicable to related persons include those that deny or affect export privileges * * *.” 15 CFR 766.23(a).

On April 18, 2006, then Director of Office of Exporter Services issued an Order pursuant to Section 11(h) of the Export Administration Act of 1979, as amended (currently codified at 50 U.S.C. app. §§ 2401-2420 (2000)) (“Act”) ² and Section 766.25 of the EAR denying the export privileges under the Regulations of Wang for 10 years. The Order was based on Wang's conviction of violating the International Emergency Economic Powers Act (50 U.S.C. 1701 et seq. (2000)) (“IEEPA”). Wang was convicted of knowingly and willfully making a false statement and concealing a material fact from the Bureau of Industry Security (“BIS”) and the former U.S. Customs Service.

² 50 U.S.C. app. §§ 2401-2420 (2000). Since August 21, 2001, the Act has been in lapse and the President, through Executive Order 13222 of August 17, 2001 (3 CFR, 2001 Comp. 783 (2002)), which has been extended by successive Presidential Notices, the most recent being that of August 12, 2010 (75 FR 50681 (Aug. 16, 2010)), has continued the Regulations in effect under the International Emergency Economic Powers Act (50 U.S.C. 1701 et seq. (2000)).

BIS has presented evidence that indicates that Credit International is related to Wang by ownership, control, position of responsibility, affiliation, or other connection in the conduct of trade or business, and that it is necessary to add this entity to the Wang Denial Order in order to avoid evasion of that Order. The basis for naming Credit International to the Wang Denial Order is that Wang acting for, as, or on behalf of Credit International, is actively involved in attempting to procure items for export from the United States.

As provided in Section 766.23 of the EAR, I gave notice to Credit International that its export privileges under the EAR could be denied for up to 10 years due to its relationship with Wang and that BIS believes naming Credit International as a related party to Wang would be necessary to prevent evasion of a denial order imposed against Wang. In providing such notice, I gave Credit International an opportunity to oppose its addition to the Wang Denial Order as a related party. Having received no submission, I have decided, following consultations with BIS's Office of Export Enforcement, including its Director, to name Credit International as a Related Person to the Wang Denial Order, thereby denying Credit International export privileges for 10 years from the date of Wang's conviction.

I have also decided to revoke all licenses issued pursuant to the Act or EAR in which Credit International had an interest at the time of Wang's conviction. The 10-year denial period will end on May 2, 2015.

Accordingly, it is hereby

Ordered

First, that having been provided notice and opportunity for comment as provided in Sections 766.25 and 766.23 of the Export Administration Regulations (the “Regulations”), the following entity, Credit International Trading Co., Ltd. (11th Institute) (“Credit International”), with last known addresses at No. 2 Zhong Guan Cun Nan Street, Haidian District, Beijing 100039, People's Republic of China, and No 9A Dongtucheng Road, Heping Street, Chaoyang District, Beijing, People's Republic of China has been determined to be related to Wang by affiliation, ownership, control, or position of responsibility in the conduct of trade or related services, and it has been deemed necessary to make the Order denying the export privileges of Wang applicable to Credit International in order to prevent evasion of the Wang Denial Order.

Second, that the denial of export privileges described in the Wang Denial Order, which was published in the Federal Register on April 25, 2006 at 71 FR 23896, shall be made applicable to Credit International until its expiration on May 2, 2015, as follows:

I. Credit International, with last known addresses at No. 2 Zhong Guan Cun Nan Street, Haidian District, Beijing 100039, People's Republic of China, and No 9A Dongtucheng Road, Heping Street, Chaoyang District, Beijing, People's Republic of China, and when acting for or on behalf of Credit International, its representatives, agents, officers or employees (collectively, “Related Person”) may not participate, directly or indirectly, in any way in any transaction involving any commodity, software or technology (hereinafter collectively referred to as “item”) exported or to be exported from the United States that is subject to the Regulations, or in any other activity subject to the Regulations, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the Regulations, or in any other activity subject to the Regulations; or

C. Benefiting in any way from any transaction involving any item exported or to be exported from the United States that is subject to the Regulations, or in any other activity subject to the Regulations.

II. No person may, directly or indirectly, do any of the following:

A. Export or reexport to or on behalf of the Related Person any item subject to the Regulations;

B. Take any action that facilitates the acquisition or attempted acquisition by the Related Person of the ownership, possession, or control of any item subject to the Regulations that has been or will be exported from the United States, including financing or other support activities related to a transaction whereby the Related Person acquires or attempts to acquire such ownership, possession or control;

C. Take any action to acquire from or to facilitate the acquisition or attempted acquisition from the Related Person of any item subject to the Regulations that has been exported from the United States;

D. Obtain from the Related Person in the United States any item subject to the Regulations with knowledge or reason to know that the item will be, or is intended to be, exported from the United States; or

E. Engage in any transaction to service any item subject to the Regulations that has been or will be exported from the United States and which is owned, possessed or controlled by the Related Person, or service any item, of whatever origin, that is owned, possessed or controlled by the Related Person if such service involves the use of any item subject to the Regulations that has been or will be exported from the United States. For purposes of this paragraph, servicing means installation, maintenance, repair, modification or testing.

Third, that in accordance with the provisions of Section 766.23(c) of the Regulations, the Related Person may, at any time, make an appeal related to this Order by filing a full written statement in support of the appeal with the Office of the Administrative Law Judge, U.S. Coast Guard ALJ Docketing Center, 40 South Gay Street, Baltimore, Maryland 21202-4022.

Fourth, that this Order does not prohibit any export, reexport, or other transaction subject to the Regulations where the only items involved that are subject to the Regulations are the foreign-produced direct product of U.S.-origin technology.

Fifth, that this Order is effective immediately and shall remain in effect until May 2, 2015.

Sixth, that this Order shall be published in the Federal Register and a copy served on the Related Person.

Issued this 30 day of March 2011.
Bernard Kritzer,
Director, Office of Exporter Services.

[FR Doc. 2011-8194 Filed 4-5-11; 8:45 am]

BILLING CODE 3510-DT-P